DEPARTMENT OF THE TREASURY

Internal Revenue Service

Quarterly Publication of Individuals Who Have Chosen To Expatriate: Correction

AGENCY: Internal Revenue Service (IRS), Treasury.

ACTION: Correction notice.

SUMMARY: This document contains corrections to a publication of the Quarterly Publication Of Individuals Who Have Chosen To Expatriate in accordance with IRC Section 6039G of the Health Insurance Portability and Accountability Act (HIPAA) of 1996, as amended that was published in the Federal Register on January 29, 2024.

FOR FURTHER INFORMATION CONTACT: Steven B. Levine 737-800-7543 (not a toll-free number).

SUPPLEMENTARY INFORMATION:

Background

The publication of the Quarterly Publication Of Individuals Who Have Chosen To Expatriate for the fourth quarter of 2023 is required by IRC section 6039G of the Health Insurance Portability and Accountability Act (HIPAA) of 1996, as amended, is the subject of this correction is under section 6039(G) of the Internal Revenue Code.

Correction of Publication

Accordingly, FR Doc. 2024-01648, the publication of the Quarterly Publication Of Individuals Who Have Chosen To Expatriate for the fourth quarter of 2023, appearing on page 5606 in the Federal Register on Monday, January 29, 2024, is corrected on page 5606, in the third column, the sixth through eighth lines of the first partial paragraph are corrected to read “whom the Secretary received information during the quarter ending December 31, 2023. For purposes of”.

Oluwafunmilayo A. Taylor,
Chief, Publications and Regulations Section, Associate Chief Counsel, (Procedure and Administration).

[FR Doc. 2024-20543 Filed 9-10-24; 8:45 am]

BILLING CODE P